ENVIRONMENTAL PROTECTION AGENCY

[FRL-7857-9]

Science Advisory Board Staff Office Notification of Advisory Meeting of the Science Advisory Board Regulatory Environmental Modeling (REM) Guidance Review Panel

AGENCY: Environmental Protection Agency (EPA).

ACTION: Notice.

SUMMARY: The Science Advisory Board (SAB) Regulatory Environmental Modeling (REM) Guidance Review Panel will hold two public advisory meetings, one teleconference and one face-to-face meeting, to provide the Agency advice on their Draft Guidance and Models Knowledge Base related to modeling activity within the EPA.

DATES: January 21, 2005 and February 7-9, 2005.

January 21, 2005 Public Conference call: The SAB REM Guidance Review Panel will meet on January 21, 2005, via teleconference from 1 p.m. to 3 p.m. (eastern standard time).

February 7-9, 2005 Public meeting: The SAB REM Guidance Review Panel will meet on February 7-9, 2005, in Washington, DC. The meeting will commence at 9 a.m. (eastern standard time) on February 7, 2005, and adjourn no later than 2:30 p.m. on February 9, 2005.

ADDRESSES: The public teleconference will take place via teleconference only. The face-to-face public meeting will take place at the SAB Conference Center, 1025 F Street, NW., Suite 3700, Washington, DC 20004.

FOR FURTHER INFORMATION CONTACT: Any member of the public who wishes to obtain the teleconference call-in numbers and access codes, would like to submit written or brief oral comments (5 minutes or less for the public face-to-face meeting, and 3 minutes or less for the public teleconference meeting), or who wants further information concerning these public meetings should contact Dr. Jack Kooyoomjian, Designated Federal Officer (DFO), EPA SAB, 1200 Pennsylvania Avenue, NW., (MC 1400F), Washington, DC 20460; via telephone/voice mail: (202) 343-9984; fax: (202) 233-0643; or e-mail at: kooyoomjian.jack@epa.gov. General information concerning the SAB can be found on the SAB Web site at: http://www.epa.gov/sab.

SUPPLEMENTARY INFORMATION: Background: Pursuant to the Federal Advisory Committee Act, Pub. L. 92-463, the SAB Staff Office hereby gives notice of two public meetings of the SAB REM Guidance Review Panel. The EPA's Office of Research Development (ORD) requested that the SAB review the Agency's draft guidance entitled, “Draft Guidance on the Development, Evaluation, and Application of Regulatory Environmental Models,” dated November 2003 (referred to here also as the Draft Guidance) and “Models Knowledge Base.” The Draft Guidance is for those who develop, evaluate, and apply environmental models. It does not impose legally binding requirements and, depending on the circumstances, may not apply to a particular situation. The EPA retains the discretion to adopt approaches that differ from the guidance on a case-by-case basis. The Models Knowledge Base is an inventory of EPA's environmental models. It contains information about model use and model science and is intended to be a useful tool for environmental modelers and managers. Additional background information on this review activity, such as the Federal Register notice (68 FR 46602, August 6, 2003) soliciting nominations for Panel membership can be found on the SAB Web site at: http://www.epa.gov/sab/panels/cremgacpanel.html.

Purpose of the January 21, 2005 Public Teleconference: The purpose of this public teleconference meeting is to discuss the charge to the SAB REM Guidance Review Panel; discuss available materials and background materials as they pertain to the charge, discuss assignments to the Panelists, and plan for the February 7-9, 2005 face-to-face public advisory meeting.

Purpose of the February 7-9, 2005 Public Face-to-Face Meeting: The purpose of this meeting is to conduct a peer review of the Agency's Draft Guidance and Models Knowledge Base and any other supplemental materials in response to the charge questions.

Availability of Meeting Materials: Copies of the meeting agendas, the roster of the SAB Review Panel, and the charge to the SAB described in this notice will be posted on the SAB Web site at: http://www.epa.gov/sab/panels/cremgacpanel.html prior to each meeting. Persons who wish to obtain copies of the Agency's Draft Guidance, the Models Knowledge Base or other materials pertinent to this advisory activity may obtain these materials at http://www.epa.gov/crem, or http://www.epa.gov/crem/sab.

For further information regarding the Agency's Draft Guidance or Models Knowledge Base or other relevant background materials, please contact Mr. Pasky Pascual of the U.S. EPA, Office of Research & Development (Mail Code 8102), by telephone/voice mail at (202) 564-2259, by fax at (202) 565-2925; or via e-mail at pascual.pasky@epa.gov.

Providing Oral or Written Comments at SAB Meetings: It is the policy of the SAB Staff Office to accept written public comments of any length, and to accommodate oral public comments wherever possible. The SAB Staff Office expects the public statements presented at its meetings will not be repetitive of previously-submitted oral or written statements. Oral Comments: In general, each individual or group requesting an oral presentation at a public face-to-face meeting will be limited to a total time of five minutes (unless otherwise indicated), and three minutes at a teleconference meeting (unless otherwise indicated). Requests to provide oral comments must be in writing (e-mail, fax, or mail) and received by the DFO no later than noon Eastern Time five business days prior to the meeting in order to reserve time on the meeting agenda. Speakers should bring at least 35 copies of their comments and presentation slides for distribution to the reviewers and public at the meeting. Written Comments: Although the SAB Staff Office accepts written comments until the date of the meeting (unless otherwise stated), written comments should be received in the SAB Staff Office no later than noon Eastern Time five business days prior to the meeting so that the comments may be made available to the Panelists for their consideration. Comments should be supplied to the DFO (preferably by e-mail) at the address/contact information noted above in the following formats: one hard copy with original signature, and one electronic copy via e-mail (acceptable file format: Adobe Acrobat PDF, WordPerfect, Word, or Rich Text files (in IBM-PC/Windows 98/2000/XP format)). Those providing written comments and who attend the meeting are also asked to bring 35 copies of their comments for public distribution.

Meeting Access: Individuals requiring special accommodation for these public meetings, such as hearing impaired accommodations for the teleconference call or wheelchair access to the conference room for the face-to-face meeting, should contact the DFO at least five business days prior to the meeting, so that appropriate arrangements can be made.

Dated: December 22, 2004.
Anthony Maciorowski,
Acting Director, EPA Science Advisory Board Staff Office.

[FR Doc. 05-264 Filed 1-5-05; 8:45 am]

BILLING CODE 6560-50-P